DEPARTMENT OF JUSTICE

Notice of Extension to Public Comment Period for Two Consent Decrees Under the Resource Recovery and Conservation Act

On September 30, 2015, the Department of Justice lodged two proposed Consent Decrees with two United States District Courts, the Middle District of Florida and the Eastern District of Louisiana, in lawsuits both entitled United States v. Mosaic Fertilizer, LLC, Civil Action No. 15-cv-02286 in the Middle District of Florida and Civil Action No. 15-cv-04889 in the Eastern District of Louisiana. The proposed Consent Decrees will resolve all of the claims of the United States against Mosaic under the Resource Conservation and Recovery Act (RCRA) at Mosaic's facilities in Bartow, Lithia, Mulberry and Riverview, Florida and in St. James and Uncle Sam, Louisiana. They also resolve, respectively, the parallel claims of the Florida Department of Environmental Protection (FDEP) and the Louisiana Department of Environmental Quality (LDEQ) against Mosaic. The alleged violations in this case stem from storage and disposal of waste from the production of phosphoric and sulfuric acids, key components of fertilizers, at Mosaic's facilities.

The two consent decrees require Mosaic to spend approximately $170 million on projects to ensure the proper treatment, storage, and disposal of its hazardous waste and reduce the environmental impact of its manufacturing and waste management programs. Mosaic also will establish a $630 million trust fund—which will be invested to grow until it reaches full funding of $1.8 billion—the cost to cover phosphogypsum stack closure, including the treatment of hazardous process wastewater, at four of its operating facilities, and long-term care of all of its Florida and Louisiana facilities. The Mosaic Company, Mosaic Fertilizer's parent company, will provide financial guarantees for this work, and the settlement also requires Mosaic Fertilizer to submit a $50 million letter of credit. Mosaic also will pay a $5 million civil penalty to the United States and $1.55 million to Louisiana and $1.45 million to Florida, who are state co-plaintiffs in these cases. In addition, Mosaic will spend $2.2 million on two local environmental projects: A $1.2 million environmental project in Florida to mitigate and prevent certain potential environmental impacts associated with an orphaned industrial property located in Mulberry, Florida; and a $1 million project in Louisiana to fund studies regarding statewide water quality issues and the development of watershed nutrient management plans to be utilized by beef cattle, dairy and poultry producers.

The prior notice of lodging of the Consent Decrees, published on October 7, 2015, stated that the Department of Justice would receive comments concerning the settlement until November 7, 2015. Having received a request for an extension of the initial comment period and given the public interest in this settlement, the United States is extending the comment period for an additional thirty (30) Days, until December 7, 2015.

The Department of Justice will receive, for a period of sixty (60) days from October 7, 2015, any comments relating to the proposed Consent Decrees. Comments should be addressed to the Assistant Attorney General, Environment and Natural Resources Division, and should refer to United States v. Mosaic Fertilizer, LLC, Civil Action No. 15-cv-02286 in the Middle District of Florida and Civil Action No. 15-cv-04889 in the Eastern District of Louisiana, with D.J. Ref. No. 90-7-1-08388. All comments must be submitted no later than December 7, 2015. Comments may be submitted by email or by mail:

To submit comments: Send them to:

By email: pubcomment-ees.enrd@usdoj.gov.

By mail: Assistant Attorney General, U.S. DOJ—ENRD, P.O. Box 7611, Washington, DC 20044-7611.

During the public comment period, the Consent Decrees may be examined and downloaded at this Justice Department Web site: http://www.usdoj.gov/enrd/consent-decrees.

We will provide a paper copy of the Consent Decrees upon written request and payment of reproduction costs (25 cents per page). Please mail your request and payment to: Consent Decree Library, U.S. DOJ-ENRD, P.O. Box 7611, Washington, DC 20044-7611. If you would like a copy of the Consent Decree lodged with the Middle District of Florida, please enclose a check or money order, payable to the United States Treasury, for $162.50 (or $20.50 for a paper copy without the exhibits). If you would like a copy of the Consent Decree lodged with the Eastern District of Louisiana, the cost is $124.50 (or $21.25 for a paper copy without the exhibits). If you would like a copy of both Consent Decrees, the cost is $287.00 (or $41.75 for paper copies without the exhibits).

Maureen Katz,
Assistant Section Chief, Environmental Enforcement Section, Environment and Natural Resources Division.

[FR Doc. 2015-28565 Filed 11-9-15; 8:45 am]

BILLING CODE 4410-15-P